DEPARTMENT OF ENERGY

Federal Energy Regulatory Commission

[Docket Nos. ER00-744-002, ER00-1712-004, ER00-1703-001]

PPL Brunner Island, LLC, PPL Holtwood, LLC, PPL Martins Creek, LLC, PPL Montour, LLC, PPL Susquehanna, LLC, PPL Electric Utilities Corporation, PPL EnergyPlus, LLC; Notice of Filing

November 17, 2004.

Take notice that on November 9, 2004, PPL Brunner Island, LLC, PPL Holtwood, LLC, PPL Martins Creek, LLC, PPL Montour, LLC and PPL Susquehanna, LLC (collectively, the PPL Generating Companies), PPL Electric Utilities Corporation (PPL Electric) and PPL EnergyPlus, LLC (PPL EnergyPlus), tendered for filing amendments to their pending triennial market power updates pursuant to Acadia Power Partners, LLC, 107 FERC ¶ 61,168 (2004). The PPL Generating Companies, PPL Electric and PPL EnergyPlus also submitted amendments to each of their market-based rate tariffs to incorporate the Market Behavior Rules adopted by the Commission in Investigation of Terms and Conditions of Public Utility Market-Based Rate Authorizations, 105 FERC ¶ 61,218 (2003).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 30, 2004.

Linda Mitry,
Deputy Secretary.

[FR Doc. E4-3304 Filed 11-22-04; 8:45 am]

BILLING CODE 6717-01-P